DEPARTMENT OF STATE

[Public Notice: 9329]

Imposition of Nonproliferation Measures Against Foreign Persons, Including a Ban on U.S. Government Procurement; Correction

AGENCY: Bureau of International Security and Nonproliferation, Department of State.

ACTION: Notice; correction.

SUMMARY: The Department of State published a Federal Register notice on September 2, 2015, providing notice of a determination that a number of foreign persons had engaged in activities that warrant the imposition of measures pursuant to Section 3 of the Iran, North Korea, and Syria Nonproliferation Act. The document contains an incorrect effective date. This document corrects the notice by changing the effective date to August 28, 2015.

FOR FURTHER INFORMATION CONTACT: On general issues: Pam Durham, Office of Missile, Biological, and Chemical Nonproliferation, Bureau of International Security and Nonproliferation, Department of State, Telephone (202) 647-4930. For U.S. Government procurement ban issues: Eric Moore, Office of the Procurement Executive, Department of State, Telephone: (703) 875-4079.

SUPPLEMENTARY INFORMATION: Section 3 of the Iran, North Korea, and Syria Nonproliferation Act (Public Law 106-178, as amended by Public Laws 109-112 and 109-353) (the Act), provides that the application of measures to a foreign person pursuant to subsection 3(a) of the Act shall be announced by notice published in the Federal Register. Subsection 3(c)(3) further provides that, under certain circumstances, such measures are effective on the date the report identifying the foreign person or persons is submitted to Congress (which occurred on August 28, 2015). The relevant circumstances are present with respect to these measures. Therefore, the effective date reflected in the Notice should have been August 28, 2015, not the date of publication.

Correction

In the Federal Register of September 2, 2015, in FR Doc 2015-21778, appearing on page 53222 of Volume 80, in the first column, the DATES section is corrected to read: “Effective Date: August 28, 2015.”

Dated: October 21, 2015.
Thomas M. Countryman,
Assistant Secretary of State for International, Security and Nonproliferation.

[FR Doc. 2015-27386 Filed 10-26-15; 8:45 am]

BILLING CODE 4710-27-P